DEPARTMENT OF ENERGY

Environmental Management Site-Specific Advisory Board, Savannah River Site

AGENCY: Office of Environmental Management, Department of Energy.

ACTION: Notice of open meeting.

SUMMARY: This notice announces a meeting of the Environmental Management Site-Specific Advisory Board (EM SSAB), Savannah River Site. The Federal Advisory Committee Act requires that public notice of this meeting be announced in the Federal Register.

DATES:

Monday, July 25, 2022; 1:00 p.m.-4:30 p.m.

Tuesday, July 26, 2022; 9:00 a.m.-4:30 p.m.

ADDRESSES: DoubleTree Hotel, 2651 Perimeter Parkway, Augusta, GA 30909.

The meeting will also be streamed on YouTube, no registration is necessary; links for the livestream can be found on the following website: https://cab.srs.gov/srs-cab.html.

FOR FURTHER INFORMATION CONTACT: Amy Boyette, Office of External Affairs, U.S. Department of Energy (DOE), Savannah River Operations Office, P.O. Box A, Aiken, SC 29802; Phone: (803) 952-6120; or Email: amy.boyette@srs.gov.

SUPPLEMENTARY INFORMATION: Purpose of the Board: The purpose of the Board is to make recommendations to DOE-EM and site management in the areas of environmental restoration, waste management, and related activities.

Tentative Agenda:

Monday, July 25, 2022:

Chair Update

Agenda Review

Agency Updates

Subcommittee Updates:

• Administrative & Outreach Subcommittee

• Facilities Disposition & Site Remediation Subcommittee

• Nuclear Materials Subcommittee

• Waste Management Subcommittee

Presentations:

• Savannah River Site Archaeology Program

• Justice 40

Public Comments

Board Business

• Discussion/Closure of Recommendation 370, Revise the Member Appointment Process, 6/28/2021

Tuesday, July 26, 2022:

Agenda Review

Presentations:

• Lower Three Runs Integrator Operable Unit Overview

• Savannah River Site Spent Nuclear Fuel Receipts and Storage

• Savannah River National Laboratory

• Defense Waste Processing Facility

• DOE 3013 Container Program

• Plutonium Storage and Down Blend Program

• Environmental Protection Agency and South Carolina Department of Health and Environmental Control Oversight Programs

Public Comments

Board Business, Voting

Public Participation: The meeting is open to the public. It will be held strictly following COVID-19 precautionary measures. To provide a safe meeting environment, seating may be limited; attendees should register for in-person attendance by sending an email to srscitizensadvisoryboard@srs.gov no later than 4:00 p.m. ET on Thursday, July 21, 2022. The EM SSAB, Savannah River Site, welcomes the attendance of the public at its advisory committee meetings and will make every effort to accommodate persons with physical disabilities or special needs. If you require special accommodations due to a disability, please contact Amy Boyette at least seven days in advance of the meeting at the telephone number listed above. Written statements may be filed with the Board via email either before or after the meeting. Individuals who wish to make oral statements pertaining to agenda items should submit their request to srscitizensadvisoryboard@srs.gov. Requests must be received five days prior to the meeting and reasonable provision will be made to include the presentation in the agenda. Comments will be accepted after the meeting, by no later than 4:00 p.m. ET on Monday, August 1, 2022. Please submit comments to srscitizensadvisoryboard@srs.gov. The Deputy Designated Federal Officer is empowered to conduct the meeting in a fashion that will facilitate the orderly conduct of business. Individuals wishing to make oral public comments will be provided a maximum of five minutes to present their comments. Individuals wishing to submit written public comments should email them as directed above.

Minutes: Minutes will be available by emailing or calling Amy Boyette at the email address or telephone number listed above. Minutes will also be available at the following website: https://cab.srs.gov/srs-cab.html.

Signed in Washington, DC, on June 22, 2022.
LaTanya Butler,
Deputy Committee Management Officer.

[FR Doc. 2022-13694 Filed 6-27-22; 8:45 am]

BILLING CODE 6450-01-P